DEPARTMENT OF THE INTERIOR

National Park Service

Draft Supplemental Environmental Impact Statement, General Management Plan Amendment for Visitor & Learning Center Great Basin National Park, White Pine County, NV; Notice of Availability

SUMMARY: Pursuant to § 102(2)(c) of the National Environmental Policy Act of 1969 (Pub. L. 91-190, as amended), the National Park Service, Department of the Interior, has prepared a draft supplemental environmental impact statement to amend the General Management Plan assessing the potential impacts of a proposal to construct a new Visitor/Learning Center on National Park Service administered lands north of the town of Baker, Nevada. The existing General Management Plan called for the construction of a visitor center within the park on Baker Ridge. This conservation planning and environmental impact analysis effort to date has identified and analyzed three alternatives (and appropriate mitigation strategies) for the location of the park's Visitor/Learning Center. The park announced the initiation of the scoping process for this DSEIS on December 2, 1999 in the Federal Register.

Proposal and Alternatives: The draft supplemental environmental impact statement (DSEIS) includes three alternatives, including the “no action” (existing conditions) alternative. The No Action Alternative assumes that the location of the Visitor/Learning Center would remain unchanged from the existing General Management Plan. The Preferred Alternative amends the General Management Plan to allow locating the new Visitor/Learning Center outside of the main park area, in the town of Baker, Nevada. The Third Alternative amends the General Management Plan to eliminate the Baker Ridge Visitor Center and to maintain the current Lehman Caves Visitor Center as the only orientation facility.

Comments: Printed or CD-ROM copies of the DSEIS are available for public review; in addition the document is posted on the park website at www.nps.gov/grba. Inquiries may be directed to: Superintendent, Great Basin National Park, Baker, Nevada, 89311, or telephone (775) 234-7331. Interested individuals, organizations, and agencies wishing to provide comments are encouraged to address these to the Superintendent, Great Basin National Park. All written comments must be postmarked not later than 60 days from the date the EPA publishes its notice of filing of the DSEIS in the Federal Register (as soon as this date has been determined it will be announced on the park web site).

If individuals submitting comments request that their name or/and address be withheld from public disclosure it will be honored to the extent allowable by law. Such requests must be stated prominently in the beginning of the comments. There may also be circumstances wherein the NPS will withhold a respondent's identity as allowable by law. As always: NPS will make available to public inspection all submissions from organizations and businesses; and, anonymous comments may not be considered.

Public Meetings: One public meeting will be held in Baker, Nevada. Confirmed details as to specific date and time will be announced in the local newspaper, available at the internet site identified above, or can be obtained by calling the park at (775) 234-7331.

Decision: After the formal DSEIS review period has concluded, all comments and suggestions received will be considered in preparing the final SEIS. Currently the final SEIS is anticipated in the Summer of 2002; its availability will be similarly announced in the Federal Register. Subsequently a Record of Decision would be executed no sooner than 30 (thirty) days after the release of the final SEIS. As a delegated EIS, the official responsible for approval is the Regional Director, Pacific West Region; subsequently the official responsible for implementation will be the Superintendent, Great Basin National Park.

Dated: March 21, 2002.
Patricia L. Neubacher,
Acting Regional Director, Pacific West Region.

[FR Doc. 02-10023 Filed 4-23-02; 8:45 am]

BILLING CODE 4310-70-M